NATIONAL AERONAUTICS AND SPACE ADMINISTRATION

[Notice (02-047)]

U.S. Centennial of Flight Commission

AGENCY: National Aeronautics and Space Administration.

ACTION: Notice of meeting.

SUMMARY: In accordance with the Federal Advisory Committee Act, Public Law 92-463, as amended, the National Aeronautics and Space Administration announces a teleconference meeting of the U.S. Centennial of Flight Commission.

DATES: Wednesday, April 10, 2002, 3 p.m. to 4 p.m.

ADDRESSES: This meeting will be conducted via teleconference; hence participation will require contacting Ms. Beverly Farmarco at 202/358-1903 before 12 noon Eastern, April 8, 2002, leaving your name, affiliation, and phone number.

FOR FURTHER INFORMATION CONTACT: Ms. Beverly Farmarco, Code I-2, National Aeronautics and Space Administration, Washington, DC 20546, 202/358-1903.

SUPPLEMENTARY INFORMATION: The meeting will be open to the public up to the seating capacity of the teleconferencing room. The agenda for the meeting is as follows: Review application for Media Patron Program.

It is imperative that the meeting be held on this date to accommodate the scheduling priorities of the key participants.

Dated: March 27, 2002.
Sylvia K. Kraemer,
Advisory Committee Management Officer, National Aeronautics and Space Administration.

[FR Doc. 02-8089 Filed 4-3-02; 8:45 am]

BILLING CODE 7510-01-P